DEPARTMENT OF COMMERCE

National Oceanic and Atmospheric Administration

[RTID 0648-XE874]

Marine Mammals; File No. 28912

AGENCY: National Marine Fisheries Service (NMFS), National Oceanic and Atmospheric Administration (NOAA), Commerce.

ACTION: Notice; issuance of permit.

SUMMARY: Notice is hereby given that a permit has been issued to Daniel Costa, Ph.D., University of California at Santa Cruz, 130 McAlister Way, Santa Cruz, CA 95060 to conduct research on California sea lions (Zalophus californianus).

ADDRESSES: The permit and related documents are available for review upon written request via email to NMFS.Pr1Comments@noaa.gov.

FOR FURTHER INFORMATION CONTACT: Sara Young or Shasta McClenahan, Ph.D., (301) 427-8401.

SUPPLEMENTARY INFORMATION: On March 18, 2025, notice was published in the Federal Register (90 FR 12525) that a request for a permit to conduct research on California sea lions had been submitted by the above-named applicant. The requested permit has been issued under the authority of the Marine Mammal Protection Act of 1972, as amended (16 U.S.C. 1361 et seq.), the regulations governing the taking and importing of marine mammals (50 CFR part 216), and the Fur Seal Act of 1966, as amended (16 U.S.C. 1151 et seq.).

The permit authorizes research on California sea lions throughout their range to investigate their foraging ecology, habitat use, and health. Research activities include: unmanned aircraft system, vessel and ground surveys for counts, photography, observations, and acoustic playbacks; captures, including sedation, anesthesia, restraint, morphometrics, marking, external instrument attachment, biological sampling, and ultrasound; and collection, import, export, and receipt of pinniped parts. Ten non-target species of non-ESA listed cetaceans and four non-target non-ESA listed species of pinnipeds may be disturbed during these studies. See the application for complete numbers of animals requested by species and procedure, including unintentional mortalities. The permit is valid until May 31, 2035.

In compliance with the National Environmental Policy Act of 1969 (42 U.S.C. 4321 et seq.), a final determination has been made that the activity proposed is categorically excluded from the requirement to prepare an environmental assessment or environmental impact statement.

Dated: June 16, 2025.
Shannon Bettridge,
Chief, Marine Mammal and Sea Turtle Conservation Division, Office of Protected Resources, National Marine Fisheries Service.

[FR Doc. 2025-11844 Filed 6-26-25; 8:45 am]

BILLING CODE 3510-22-P